DEPARTMENT OF TRANSPORTATION

Federal Aviation Administration

14 CFR Part 71

[Docket No. FAA-2007-0309; Airspace Docket No. 07-AEA-20]

Amendment of Class E Airspace; Gettysburg, PA

AGENCY: Federal Aviation Administration (FAA), DOT.

ACTION: Direct final rule, confirmation of effective date.

SUMMARY: This action confirms the effective date of a direct final rule published in the Federal Register (73 FR 8593) that modifies Class E Airspace at Gettysburg, PA. Additional controlled airspace at Gettysburg Regional Airport will now provide the controlled airspace required to support the new Copter Area Navigation (RNAV) Global Positioning System (GPS) 070 Point in Space (PinS) approach developed to facilitate helicopter medical flight arrivals and departures at Gettysburg Hospital, Gettysburg, PA.

DATES: Effective 0901 UTC June 27, 2008. The Director of the Federal Register approves this incorporation by reference action under title 1, Code of Federal Regulations, part 51, subject to the annual revision of FAA Order 7400.9 and publication of conforming amendments.

FOR FURTHER INFORMATION CONTACT: Melinda Giddens, System Support Group, Eastern Service Center, Federal Aviation Administration, P.O. Box 20636, Atlanta, Georgia 30320; Telephone (404) 305-5610; Fax (404) 305-5572.

SUPPLEMENTARY INFORMATION:

Confirmation of Effective Date

The FAA published this direct final rule with a request for comments in the Federal Register on February 14, 2008 (73 FR 8593), Docket No. FAA 2007-0309; Airspace Docket No. 07-AEA-20. The FAA uses the direct final rulemaking procedure for a non-controversial rule where the FAA believes that there will be no adverse public comment. This direct final rule advised the public that no adverse comments were anticipated, and that unless a written adverse comment, or a written notice of intent to submit such an adverse comment, were received within the comment period, the regulation would become effective on June 5, 2009. No adverse comments were received, and this notice confirms that effective date.

Issued in College Park, Georgia, on May 19, 2008.
Barry A. Knight,
Acting Manager, Operations Support Group, Eastern Service Center, Air Traffic Organization.

[FR Doc. E8-14384 Filed 6-26-08; 8:45 am]

BILLING CODE 4910-13-P